DEPARTMENT OF TRANSPORTATION

Federal Aviation Administration

Notice Before Waiver With Respect to Land at Virginia Highlands Airport, Abingdon, Virginia

AGENCY: Federal Aviation Administration (FAA), DOT.

ACTION: Notice of intent of waiver with respect to land.

SUMMARY: The FAA is publishing notice of proposed release of 0.45 acres of land at the Virginia Highlands Airport, Abingdon, Virginia to Highlands Properties, Inc. in exchange for 1.4 acres of land within the Runway Protection Zone. There are no impacts to the Airport and the land is not needed for airport development as shown on the Airport Layout Plan. Fair Market Value of the land has been assessed for both parcels and will be an even exchange for the Airport Sponsor.

DATES: Comments must be received on or before March 8, 2002.

ADDRESSES: Comments on this application may be mailed or delivered in triplicate to the FAA at the following address: Terry J. Page, Manager, FAA Washington Airports District Office, P.O. Box 16780, Washington, DC 20041-6780.

In addition, one copy of any comments submitted to the FAA must be mailed or delivered to Ronald Deloney, Airport Manager, Virginia Highlands Airport, at the following address: Ronald Deloney, Airport Manager, Virginia Highlands Airport Commission, P.O. Box 631, Abingdon, Virginia 24212-0631.

FOR FURTHER INFORMATION CONTACT: Mr. Terry Page, Manager, Washington Airports District Office, P.O. Box 16780, Washington, DC 20041-6780; telephone (703) 661-1354, fax (703) 661-1370, e-mail Terry.Page@faa.gov.

SUPPLEMENTARY INFORMATION: On April 5, 2000, new authorizing legislation became effective. That bill, the Wendell H. Ford Aviation Investment and Reform Act for the 21st Century, Public Law 10-181 (Apr. 5, 2000; 114 Stat. 61) (AIR 21) requires that a 30-day public notice must be provided before the Secretary may waive any condition imposed on an interest in surplus property.

Issued in Chantilly, Virginia, on November 2, 2001.
Terry J. Page,
Manager, Washington Airports District Office, Eastern Region.

[FR Doc. 02-2829 Filed 2-5-02; 8:45 am]

BILLING CODE 4910-13-M